DEPARTMENT OF COMMERCE

International Trade Administration

A-570-939

Certain Tow Behind Lawn Groomers and Certain Parts Thereof from the People's Republic of China: Final Determination of Sales at Less Than Fair Value

AGENCY: Import Administration, International Trade Administration, Department of Commerce.

EFFECTIVE DATE: June 19, 2009.

SUMMARY: The Department of Commerce (“Department”) has determined that certain tow behind lawn groomers and certain parts thereof (“lawn groomers”) from the People's Republic of China (“PRC”) are being, or is likely to be, sold in the United States at less than fair value (“LTFV”) as provided in section 735 of the Tariff Act of 1930, as amended (the “Act”). The final dumping margins for this investigation are listed in the “Final Determination Margins” section below. The period covered by the investigation is October 1, 2007, through March 31, 2008.

FOR FURTHER INFORMATION CONTACT: Karine Gziryan, Thomas Martin or Zhulieta Willbrand, AD/CVD Operations, Office 4, Import Administration, International Trade Administration, U.S. Department of Commerce, 14th Street and Constitution Avenue, NW, Washington, DC 20230; telephone: (202) 482-4081, (202) 482-3936, and (202) 482- 3147 respectively.

SUPPLEMENTARY INFORMATION:

Background

The Department published its preliminary determination of sales at LTFV on January 28, 2009. See Certain Tow Behind Lawn Groomers and Certain Parts Thereof from the People's Republic of China: Preliminary Determination of Sales at Less Than Fair Value and Postponement of Final Determination, 74 FR 4929 (January 28, 2009) (“Preliminary Determination”). On February 19, 2009, Jiashan Superpower Tools Co., Ltd. (“Superpower”), informed the Department that it would not participate in the verification of its information and withdrew from the investigation. See Letter to Secretary of Commerce, “Certain Tow Behind Lawn Groomers and Certain Parts Thereof from the People's Republic of China; A-570-939; Notice by Jiashan Superpower Tools Co., Ltd.,” dated February 19, 2009. On March 2, 2009, Princeway Furniture (Dong Guan) Co., Ltd. (“Princeway”) also informed the Department that it would not participate in the verification of its information and withdrew from the investigation, and Princeway requested that the Department remove all of its submissions from the administrative record, certify the destruction of the submissions, and certify the destruction of Princeway's submissions that are in the possession of interested parties to the proceeding. See Letter to Secretary of Commerce, “Lawn Groomers from China” dated March 2, 2009. On March 6, 2009, Superpower also requested that the Department remove all of its business proprietary submissions from the administrative record. See Letter to Secretary of Commerce, “Certain Tow Behind Lawn Groomers and Certain Parts Thereof from the People's Republic of China; A-570-939; Withdrawal of Confidential Business Proprietary Information by Jiashan Superpower Tools Co., Ltd.,” dated February 19, 2009. On March 6, 2009, Agri-Fab, Inc. (“Petitioner”) requested that the Department amend the Preliminary Determination with regards to Princeway. See Letter to Secretary of Commerce, “Tow Behind Lawn Groomers and Parts Thereof from the People's Republic of China, Request to Reconsider and Amend Preliminary Determination of Sales at Less Than Fair Value for Princeway” dated March 6, 2009.

On March 12, 2009, Petitioner filed its case brief. After requesting an extension, Superpower filed a case brief on March 17, 2009. On March 18, 2009, Petitioner filed its rebuttal brief. Neither Princeway nor Superpower filed a rebuttal brief. No party requested a hearing.

Scope of the Investigation

The scope of this investigation covers certain non-motorized tow behind lawn groomers, manufactured from any material, and certain parts thereof. Lawn groomers are defined as lawn sweepers, aerators, dethatchers, and spreaders. Unless specifically excluded, lawn groomers that are designed to perform at least one of the functions listed above are included in the scope of this investigation, even if the lawn groomer is designed to perform additional non-subject functions (e.g., mowing).

All lawn groomers are designed to incorporate a hitch, of any configuration, which allows the product to be towed behind a vehicle. Lawn groomers that are designed to incorporate both a hitch and a push handle, of any type, are also covered by the scope of this investigation. The hitch and handle may be permanently attached or removable, and they may be attached on opposite sides or on the same side of the lawn groomer. Lawn groomers designed to incorporate a hitch, but where the hitch is not attached to the lawn groomer, are also included in the scope of the investigation.

Lawn sweepers consist of a frame, as well as a series of brushes attached to an axle or shaft which allows the brushing component to rotate. Lawn sweepers also include a container (which is a receptacle into which debris swept from the lawn or turf is deposited) supported by the frame. Aerators consist of a frame, as well as an aerating component that is attached to an axle or shaft which allows the aerating component to rotate. The aerating component is made up of a set of knives fixed to a plate (known as a “plug aerator”), a series of discs with protruding spikes (a “spike aerator”), or any other configuration, that are designed to create holes or cavities in a lawn or turf surface. Dethatchers consist of a frame, as well as a series of tines designed to remove material (e.g., dead grass or leaves) or other debris from the lawn or turf. The dethatcher tines are attached to and suspended from the frame. Lawn spreaders consist of a frame, as well as a hopper (i.e., a container of any size, shape, or material) that holds a media to be spread on the lawn or turf. The media can be distributed by means of a rotating spreader plate that broadcasts the media (“broadcast spreader”), a rotating agitator that allows the media to be released at a consistent rate (“drop spreader”), or any other configuration.

Lawn dethatchers with a net fully assembled weight (i.e., without packing, additional weights, or accessories) of 100 pounds or less are covered by the scope of the investigation. Other lawn groomers-sweepers, aerators, and spreaders-with a net fully assembled weight (i.e., without packing, additional weights, or accessories) of 200 pounds or less are covered by the scope of the investigation.

Also included in the scope of the investigation are modular units, consisting of a chassis that is designed to incorporate a hitch, where the hitch may or may not be included, which allows modules that perform sweeping, aerating, dethatching, or spreading operations to be interchanged. Modular units-when imported with one or more lawn grooming modules-with a fully assembled net weight (i.e., without packing, additional weights, or accessories) of 200 pounds or less when including a single module, are included in the scope of the investigation. Modular unit chasses, imported without a lawn grooming module and with a fully assembled net weight (i.e., without packing, additional weights, or accessories) of 125 pounds or less, are also covered by the scope of the investigation. When imported separately, modules that are designed to perform subject lawn grooming functions (i.e., sweeping, aerating, dethatching, or spreading), with a fully assembled net weight (i.e., without packing, additional weights, or accessories) of 75 pounds or less, and that are imported with or without a hitch, are also covered by the scope.

Lawn groomers, assembled or unassembled, are covered by this investigation. For purposes of this investigation, “unassembled lawn groomers” consist of either 1) all parts necessary to make a fully assembled lawn groomer, or 2) any combination of parts, constituting a less than complete, unassembled lawn groomer, with a minimum of two of the following “major components”:

1) an assembled or unassembled brush housing designed to be used in a lawn sweeper, where a brush housing is defined as a component housing the brush assembly, and consisting of a wrapper which covers the brush assembly and two end plates attached to the wrapper;

2) a sweeper brush;

3) an aerator or dethatcher weight tray, or similar component designed to allow weights of any sort to be added to the unit;

4) a spreader hopper;

5) a rotating spreader plate or agitator, or other component designed for distributing media in a lawn spreader;

6) dethatcher tines;

7) aerator spikes, plugs, or other aerating component; or

8) a hitch, defined as a complete hitch assembly comprising of at least the following two major hitch components, tubing and a hitch plate regardless of the absence of minor components such as pin or fasteners. Individual hitch component parts, such as tubing, hitch plates, pins or fasteners are not covered by the scope.

The major components or parts of lawn groomers that are individually covered by this investigation under the term “certain parts thereof” are: (1) brush housings, where the wrapper and end plates incorporating the brush assembly may be individual pieces or a single piece; and (2) weight trays, or similar components designed to allow weights of any sort to be added to a dethatcher or an aerator unit.

The products for which relief is sought specifically exclude the following: 1) agricultural implements designed to work (e.g., churn, burrow, till, etc.) soil, such as cultivators, harrows, and plows; 2) lawn or farm carts and wagons that do not groom lawns; 3) grooming products incorporating a motor or an engine for the purpose of operating and/or propelling the lawn groomer; 4) lawn groomers that are designed to be hand held or are designed to be attached directly to the frame of a vehicle, rather than towed; 5) “push” lawn grooming products that incorporate a push handle rather than a hitch, and which are designed solely to be manually operated; 6) dethatchers with a net assembled weight (i.e., without packing, additional weights, or accessories) of more than 100 pounds, or lawn groomers-sweepers, aerators, and spreaders-with a net fully assembled weight (i.e., without packing, additional weights, or accessories) of more than 200 pounds; and 7) lawn rollers designed to flatten grass and turf, including lawn rollers which incorporate an aerator component (e.g., “drum-style” spike aerators).

The lawn groomers that are the subject of this investigation are currently classifiable in the Harmonized Tariff Schedule of the United States (“HTSUS”) statistical reporting numbers 8432.40.0000, 8432.80.0000, 8432.80.0010, 8432.90.0030, 8432.90.0080, 8479.89.9896, 8479.89.9897, 8479.90.9496, and 9603.50.0000. These HTSUS provisions are given for reference and customs purposes only, and the description of merchandise is dispositive for determining the scope of the product included in this investigation.

Scope Comments

On December 30, 2008, and on January 7, 2009, Brinly-Hardy Company (“Brinly-Hardy”), a domestic producer of the merchandise under consideration, submitted comments on the scope of the investigation. Specifically, Brinly-Hardy requested that the scope be revised to define one of the eight listed “major components,” specifically a hitch, as a complete hitch assembly, with all necessary components. Brinly-Hardy requested that individual components such as tubing, hitch plates or pins, not be covered by the scope.

On January 12, 2009, Petitioner submitted comments in response to Brinly-Hardy's request. Petitioner agreed that a hitch should be defined, but stated that a hitch should be defined as consisting of its own major components, i.e., tubing and a hitch plate, rather than all necessary components. Petitioner stated that the absence of minor components such as a hitch pin or fasteners is not intended to remove a hitch assembly from the definition of a hitch.

We have received no further comments on the scope of the investigation. Thus, we are making a final determination that hitches are defined as a complete hitch assembly comprising of at least the following two major hitch components, tubing and a hitch plate regardless of the absence of minor components such as pin or fasteners. The revised scope language is included in the “Scope of the Investigation” section, above. See also “Issues and Decision Memorandum for the Final Determination in the Antidumping Duty Investigation of Certain Tow Behind Lawn Groomers and Certain Parts Thereof from the People's Republic of China,” dated concurrently with this notice, which is hereby adopted by this notice (“Issues and Decision Memorandum”) at Comment 4.

Analysis of Comments Received

All of the issues that were raised in the case and rebuttal briefs that were submitted in this investigation, and to which we have responded, are addressed in the Issues and Decision Memorandum. Appendix I to this notice contains a list of the issues that are addressed in the Issues and Decision Memorandum. The Issues and Decision Memorandum, which is a public document, is on file in the Central Records Unit, at the main Commerce Building, Room 1117, and is accessible on the Web at http://ia.ita.doc.gov/frn. The paper copy and electronic version of the memorandum are identical in content.

Changes Since the Preliminary Determination

We have made the following changes to our calculations in the Preliminary Determination:

1. We considered Princeway and Superpower to be part of the PRC-wide entity because, as a result of their withdrawal from the investigation and refusal to allow the Department to verify their respective submitted information, both entities failed to demonstrate their qualification for a separate rate. See Issues and Decision Memorandum at Comment 2.

2. For the final determination we continue to assign an AFA rate to the PRC-wide entity, which now includes Princeway and Superpower. As AFA, we have assigned the PRC-wide entity a CONNUM-specific dumping margin, i.e., 386.28 percent, calculated for Superpower in the Preliminary Determination. See Issues and Decision Memorandum at Comment 2.

3. We have assigned the separate rate companies a dumping margin equal to the initiation margin. See Issues and Decision Memorandum at Comment 3.

4. We made a clarification to the scope language concerning the definition of hitch. See Issues and Decision Memorandum at Comment 4.

Adverse Facts Available

As noted in the “Background” section above, Superpower and Princeway withdrew from the investigation and refused to allow the Department to verify the information they had submitted in this proceeding. As a result both entities failed to demonstrate eligibility for a separate rate and thus are considered part of the PRC-wide entity.

Section 776(a)(2)(C) and (D) of the Act provides that, if an interested party significantly impedes a proceeding, or provides information that cannot be verified, the Department shall use facts otherwise available in reaching the applicable determination.

Section 776(b) of the Act authorizes the Department to use an adverse inference with respect to an interested party if the Department finds that the party failed to cooperate by not acting to the best of its ability to comply with a request for information. As the PRC-wide entity, which includes both Superpower and Princeway, failed to cooperate by not acting to the best of its ability to comply with a request for information an adverse inference is warranted under section 776(b) of the Act.

In our Preliminary Determination, we calculated antidumping duty margins for both Princeway and Superpower based on their submitted information. See Preliminary Determination. On February 19, 2009, Superpower withdrew from the investigation. Also, on March 2, 2009, Princeway withdrew from the investigation. Thus, both Princeway and Superpower withdrew from the investigation before the Department had an opportunity to verify their respective submitted information. Therefore, because both Princeway and Superpower withdrew from the investigation and failed to allow the Department to verify their information, we find that neither has demonstrated their eligibility for separate-rate status in this investigation and, thus, both are considered part of the PRC-wide entity. See Section 776(a)(2)(D) of the Act. Additionally, we find that due to their failure to act to the best of their ability in responding to the Department's requests for information, Princeway and Superpower, as part of the PRC-wide entity, significantly impeded the Department's proceeding. See Section 776(a)(2)(C) and (D) of the Act. Further, we have determined that when selecting from among facts available, an adverse inference is warranted for the PRC-wide entity pursuant to section 776(b) of the Act.

The PRC-Wide Rate

Because we begin with the presumption that all companies within a non-market economy (“NME”) country are subject to government control and because only the companies listed under the “Final Determination Margins” section, below, have overcome that presumption, we are applying a single antidumping rate (i.e., the PRC-wide rate) to all other exporters of subject merchandise from the PRC. These other companies did not demonstrate entitlement to a separate rate. See, e.g., Synthetic Indigo From the People's Republic of China; Notice of Final Determination of Sales at Less Than Fair Value, 65 FR 25706, 25707 (May 3, 2000). The PRC-wide rate applies to all entries of subject merchandise except for entries from the companies eligible for separate rate status.

In the Preliminary Determination, the Department found that certain companies did not respond to our requests for information. See Preliminary Determination, 74 FR at 4932. We treated these PRC producers/exporters as part of the PRC-wide entity because they did not demonstrate that they operate free of government control over their export activities. Id. No additional information was placed on the record with respect to any of these companies after the Preliminary Determination. Moreover, for the reasons noted above, we also consider Superpower and Princeway to be part of the PRC-wide entity.

As noted above, section 776(a)(2) of the Act provides that, if an interested party or any other person withholds information that has been requested by the administering authority, significantly impedes a proceeding under this title, or provides such information but the information cannot be verified as provided in section 782(i) of the Act, the administering authority shall, subject to section 782(d) of the Act, use facts otherwise available in reaching the applicable determination. Because the PRC-wide entity did not respond to our requests for information and because companies within the PRC-wide entity withheld information requested by the Department, and Superpower and Princeway, which are part of the PRC-wide entity, did not allow their information to be verified, pursuant to sections 776(a)(2)(A), (C), and (D) of the Act, we determine, as in the Preliminary Determination, that the use of facts otherwise available is appropriate to determine the PRC-wide rate.

Section 776(b) of the Act provides that, in selecting from among the facts otherwise available, the Department may employ an adverse inference if an interested party fails to cooperate by not acting to the best of its ability to comply with requests for information. See Notice of Final Determination of Sales at Less Than Fair Value: Certain Cold-Rolled Flat-Rolled Carbon-Quality Steel Products From the Russian Federation, 65 FR 5510, 5518 (February 4, 2000). See also Statement of Administrative Action accompanying the Uruguay Round Agreements Act, H.R. Doc. No. 103-316, Vol. 1 (1994), at 870. We determine that, because the PRC-wide entity did not respond to our requests for information, and Superpower and Princeway, which are part of that entity, prevented the Department from verifying its information, the PRC-wide entity has failed to cooperate to the best of its ability. Therefore, we have determined that, in selecting a dumping margin from among the facts otherwise available, an adverse inference is appropriate for the PRC-wide entity.

With respect to adverse facts available (“AFA”), for the final determination, we have assigned the PRC-wide entity a CONNUM-specific dumping margin, i.e., 386.28 percent, calculated for Superpower in the Preliminary Determination. See Issues and Decision Memorandum at Comment 2. No corroboration of this rate is necessary because we are relying on information obtained in the course of this investigation, rather than secondary information. See 19 CFR 351.308(c) and section 776(b) of the Act; see also Final Determination of Sales at Less Than Fair Value and Affirmative Determination of Critical Circumstances, in Part: Light-Walled Rectangular Pipe and Tube from the People's Republic of China, 73 FR 35652, 35653 (June 24, 2008), and accompanying Issues and Decision Memorandum at 1. In selecting a facts-available margin, we sought a margin that is sufficiently adverse so as to effectuate the statutory purposes of the adverse facts-available rule, which is to induce respondents to provide the Department with complete and accurate information in a timely manner. We also sought a margin that is indicative of the respondents' customary selling practices and is rationally related to the transactions to which the adverse facts available are being applied. To that end, we selected the highest margin on an individual model which fell within the mainstream of Superpower's transactions (i.e., a model that reflects sales of products that are representative of the broader range of sales used to determine U.S. price).

Separate Rates

In proceedings involving NME countries, the Department begins with a rebuttable presumption that all companies within the country are subject to government control and, thus, should be assigned a single antidumping duty deposit rate. It is the Department's policy to assign all exporters of merchandise subject to an investigation in an NME country this single rate unless an exporter can demonstrate that it is sufficiently independent so as to be entitled to a separate rate. See Final Determination of Sales at Less Than Fair Value: Sparklers From the People's Republic of China, 56 FR 20588 (May 6, 1991), as amplified by Notice of Final Determination of Sales at Less Than Fair Value: Silicon Carbide From the People's Republic of China, 59 FR 22585 (May 2, 1994); see also 19 CFR 351.107(d).

In the Preliminary Determination, the Department granted separate-rate status to Superpower, Princeway, Qingdao Huatian Truck Co., Ltd. (“Huatian”), and Nantong D & B Machinery Co., Ltd. (“Nantong”). As discussed above, the Department has determined to treat Superpower and Princeway as part of the PRC-wide entity. We note that the information that Superpower and Princeway provided to the Department to demonstrate the absence of de facto and de jure control could not be verified due to their failure to cooperate. Consequently we have not granted Superpower and Princeway separate rates.

In the Preliminary Determination, we found that Huatian and Nantong demonstrated their eligibility for separate-rate status. See Preliminary Determination, 74 FR at 4931. Since the publication of the Preliminary Determination, no parties commented on the separate rate determinations. We continue to find that the evidence placed on the record of this investigation by Huatian and Nantong demonstrates both a de jure and de facto absence of government control with respect to their exports of the merchandise under investigation. Thus, we continue to find that Huatian and Nantong are eligible for separate-rate status.

Normally the dumping margin for separate rate companies is determined based on the estimated weighted-average dumping margins established for exporters and producers individually investigated, excluding de minimis margins or margins based entirely on AFA. See Section 735(c)(5)(A) of the Act. In the Preliminary Determination, we assigned Huatian and Nantong the dumping margin established equal to a simple average of the dumping margins calculated for the two mandatory respondents, i.e., Superpower and Princeway. See Preliminary Determination, 74 FR at 4931 and 4935. Since both Superpower and Princeway are no longer receiving a separate rate, this methodology is not appropriate. In cases where the estimated weighted-average dumping margins for all individually investigated respondents are zero, de minimis, or based entirely on AFA, the Department may use any reasonable method to assign a rate to the separate rate companies. See Section 735(c)(5)(B) of the Act. In this case, where there are no mandatory respondents receiving a calculated rate and the PRC-wide entity's rate is based upon total AFA, we find that applying the rate alleged in the petition, incorporating revisions made in Petitioner's supplemental responses, to Huatian and Nantong is both reasonable and reliable for purposes of establishing a separate rate. See Final Determination of Sales at Less Than Fair Value: Sodium Hexametaphosphate From the People's Republic of China, 73 FR 6479 (February 4, 2008) and the accompanying Issues and Decision Memorandum at Comment 2. Therefore, the Department will assign a separate rate to Huatian and Nantong using the initiation rate of 154.72 percent, pursuant to its practice.

The initiation margin assigned to Huatian and Nantong is based on secondary information. According to section 776 (c) of the Act, when the Department relies on secondary information, it shall, to the extent practicable, corroborate that information. During our pre-initiation analysis of the petition, we examined the information used in the petition as the basis of export price and normal value (“NV”) and, where appropriate, revised the calculations used to derive the petition dumping margins in determining the initiation dumping margins. Also, during our pre-initiation analysis, we examined information from various independent sources provided either in the petition or, based on our requests, in supplements to the petition, which corroborated various elements of the export price and NV information. For the final determination, we compared the average of the initiation margins to Superpower's CONNUM-specific margins and found that the initiation margin falls within these margins. No other information was available for corroboration purposes. Based on the foregoing, we have concluded that the initiation dumping margin is reliable and has probative value and, therefore, we consider this average dumping margin to be corroborated, to the extent practicable.

While Agri-Fab,Inc. argued in its case brief that Huatian and Nantong should receive the PRC-wide rate based on the actual rate calculated for Superpower, we have assigned the separate-rate companies the dumping margin of 154.72 percent alleged and revised in the petition. See Issues and Decision Memorandum at Comment 3.

Combination Rates

In the Initiation Notice, the Department stated that it would calculate combination rates for certain respondents that are eligible for a separate rate in this investigation. See Certain Tow Behind Lawn Groomers and Certain Parts Thereof From the People's Republic of China: Initiation of Antidumping Duty Investigation, 73 FR 42315 (July 21, 2008) (“Initiation Notice”).

This practice is described in Policy Bulletin 05.1:

{w}hile continuing the practice of assigning separate rates only to exporters, all separate rates that the Department will now assign in its NME investigations will be specific to those producers that supplied the exporter during the period of investigation. Note, however, that one rate is calculated for the exporter and all of the producers which supplied subject merchandise to it during the period of investigation. This practice applies both to mandatory respondents receiving an individually calculated separate rate as well as the pool of non-investigated firms receiving the weighted-average of the individually calculated rates. This practice is referred to as the application of “combination rates” because such rates apply to specific combinations of exporters and one or more producers. The cash-deposit rate assigned to an exporter will apply only to merchandise both exported by the firm in question and produced by a firm that supplied the exporter during the period of investigation.

See Policy Bulletin 05.1, “Separate Rates Practice and Application of Combination Rates in Antidumping Investigations Involving Non-Market Economy Countries” available on the Import Administration's website at http://ia.ita.doc.gov/policy/index.html. For the final determination, we continue to apply this practice.

Final Determination Margins

We determine that the following weighted-average dumping margins exist for the period October 1, 2007, through March 31, 2008:

Lawn Groomers from the PRC
Exporter and Producer | Weighted-Average Margin (Percent)
Nantong D & B Machinery Co., Ltd.¹ | 154.72
Qingdao Huatian Truck Co., Ltd., a.k.a. Qingdao Huatian Hand Truck Co., Ltd.² | 154.72
PRC-wide Entity (including Superpower and Princeway) | 386.28
¹ Nantong D & B Machinery Co., Ltd. exports and manufactures subject merchandise.
² Qingdao Huatian Truck Co., Ltd. exports and manufactures subject merchandise.

Disclosure

We will disclose to parties the calculations performed within five days of the date of public announcement of this determination in accordance with 19 CFR 351.224(b). For merchandise under consideration from the exporter producer combinations listed in the table above that have been granted separate rates, we have assigned the initiation rate. Therefore, for merchandise under consideration from these exporter producer combinations, entered, or withdrawn from warehouse, for consumption on or after the publication date of this final determination, we will instruct CBP to require an antidumping cash deposit or the posting of a bond for each entry equal to 154.72 percent, as indicated above. The cash deposit rate for Superpower, Princeway, and other exporter-producer combinations is 386.28 percent, as indicated above.

Continuation of Suspension of Liquidation

In accordance with section 735(c)(1)(B) of the Act, we are directing U.S Customs and Border Protection (“CBP”) to continue to suspend liquidation of all imports of subject merchandise as described in the “Scope of the Investigation” section, that are entered or withdrawn from warehouse, for consumption on or after January 28, 2009, which is the date of publication of the Preliminary Determination in the Federal Register. We will instruct CBP to require a cash deposit or the posting of a bond equal to the weighted-average dumping margin amount by which the NV exceeds U.S. price, as follows: (1) the rate for the exporter/producer combination listed in the chart above will be the rate we have determined in this final determination; (2) for all PRC exporters of subject merchandise which have not received their own rate, the cash-deposit rate will be the PRC-wide entity rate; and (3) for all non-PRC exporters of subject merchandise which have not received their own rate, the cash-deposit rate will be the rate applicable to the PRC exporter/producer combination that supplied that non-PRC exporter. These suspension-of-liquidation instructions will remain in effect until further notice.

International Trade Commission Notification

In accordance with section 735(d) of the Act, we have notified the International Trade Commission (“ITC”) of our final determination of sales at LTFV. As our final determination is affirmative, in accordance with section 735(b)(2) of the Act, the ITC will determine whether the domestic industry in the United States is materially injured, or threatened with material injury, by reason of imports or sales (or the likelihood of sales) for importation of the subject merchandise within 45 days of this final determination. If the ITC determines that material injury or threat of material injury does not exist, the proceeding will be terminated and all securities posted will be refunded or canceled. If the ITC determines that such injury does exist, the Department will issue an antidumping duty order directing CBP to assess upon further instruction by the Department antidumping duties on all imports of the subject merchandise entered, or withdrawn from warehouse, for consumption on or after the effective date of the suspension of liquidation.

Notification Regarding APO

This notice also serves as a reminder to the parties subject to administrative protective order (“APO”) of their responsibility concerning the disposition of proprietary information disclosed under APO in accordance with 19 CFR 351.305. Timely notification of return or destruction of APO materials or conversion to judicial protective order is hereby requested. Failure to comply with the regulations and the terms of an APO is a sanctionable violation. This determination and notice are issued and published in accordance with sections 735(d) and 777(i)(1) of the Act.

Dated: June 12, 2009.
Ronald K. Lorentzen,
Acting Assistant Secretary for Import Administration.

Appendix I

Parties' Comments

Comment 1: Whether to retain Superpower's Business Proprietary Information (“BPI”) data

Comment 2: Whether to assign the PRC-wide rate as total adverse facts available to both mandatory respondents

Comment 3: Whether to assign the PRC-wide rate to the separate rate respondents

Comment 4: Whether to clarify the scope language for hitches

Comment 5: Whether to amend the preliminary determination for Princeway

[FR Doc. E9-14470 Filed 6-18-09; 8:45 am]

BILLING CODE 3510-DS-S